FEDERAL MARITIME COMMISSION

Ocean Transportation Intermediary License Revocations and Terminations

The Commission gives notice that the following Ocean Transportation Intermediary licenses have been revoked or terminated for the reason shown pursuant to section 19 of the Shipping Act of 1984 (46 U.S.C. 40101) effective on the date shown.

License No.: 13285N.

Name: Safari International Trading Corporation dba Safari Int'l Shipping & Trading Corp.

Address: 3876-3790 NW, 16th Street, Fort Lauderdale, FL 33311.

Date Revoked: August 30, 2013.

Reason: Failed to maintain a valid bond.

License No.: 16394N.

Name: First Express (Los Angeles), Inc.

Address: 5353 West Imperial Highway, Suite 900, Los Angeles, CA 90045.

Date Revoked: August 14, 2013.

Reason: Failed to maintain a valid bond.

License No.: 019002N.

Name: Glotrans International, Inc.

Address: 17625 South Central Avenue, Suite H, Carson, CA 90746.

Date Revoked: August 11, 2013.

Reason: Failed to maintain a valid bond.

License No.: 019343NF.

Name: Cali America Logistics, Inc.

Address: 161 West Victoria Street, Suite 220, Long Beach, CA 90805.

Date Revoked: August 11, 2013.

Reason: Failed to maintain valid bonds.

License No.: 020337N.

Name: WTG Logistics, Inc. dba WTG International.

Address: 140 Epping Road, Exeter, NH 03833.

Date Revoked: August 16, 2013.

Reason: Failed to maintain a valid bond.

License No.: 021966NF.

Name: Bekins A-1 Movers, Inc. dba Pinnacle Worldwide Relocations.

Address: 3 South 140 Barkley Avenue, Warrenville, IL 60555.

Date Revoked: August 12, 2013.

Reason: Failed to maintain valid bonds.

License No.: 023282N.

Name: Bcargo Logistics S.A. De C.V.

Address: Av. Alfonso Reyes #2615, Piso 10, Suite 1004, Col. Del Paseo Residencial, Nuevo Leon, Monterrey 64920, Mexico.

Date Revoked: August 24, 2013.

Reason: Failed to maintain a valid bond.

License No.: 023909N.

Name: E and M International Transport LLC.

Address: 4574 Swilcan Bridge Lane North, Jacksonville, FL 32224.

Dates Revoked: August 14, 2013.

Reason: Failed to maintain a valid bond.

License No.: 024003F.

Name: Concord Atlantic Inc. dba Concord Atlantic Shipping.

Address: 10095 Washington Blvd., North, Suite 211, Laurel, MD 20723.

Date Revoked: August 16, 2013.

Reason: Failed to maintain a valid bond.

James A. Nussbaumer,
Deputy Director, Bureau of Certification and Licensing.

[FR Doc. 2013-23889 Filed 9-30-13; 8:45 am]

BILLING CODE 6730-01-P